DEPARTMENT OF ENERGY

Agency Information Collection Extension

AGENCY: Office of Management, Department of Energy.

ACTION: Notice and request for comments.

SUMMARY: The Department of Energy (DOE), pursuant to the Paperwork Reduction Act of 1995, intends to extend for three years, an information collection request with the Office of Management and Budget (OMB).

DATES: Comments regarding this proposed information collection must be received on or before May 16, 2022. If you anticipate any difficulty in submitting comments within that period, contact the person listed in the FOR FURTHER INFORMATION CONTACT section as soon as possible.

ADDRESSES: Written comments may be sent to John Harris, Office of Policy, Contract and Financial Assistance Policy Division, Office of Acquisition Management, U.S. Department of Energy, 1000 Independence Avenue SW, Washington, DC 20585-1615, by email to John.Harris@hq.doe.gov; Mr. Harris may be contacted at (202) 287-1471.

FOR FURTHER INFORMATION CONTACT: John Harris, (202) 287-1471, John.Harris@hq.doe.gov.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5194;

(2) Information Collection Request Titled: Certification of Vaccination—DOE Onsite Support Service Contractor Employees;

(3) Type of Review: Renewal;

(4) Purpose: This information is being collected, and maintained in order to promote the safety of Federal buildings, the Federal workforce, and others on site at agency facilities consistent with the COVID-19 Workplace Safety: Agency Model Safety Principles established by the Safer Federal Workforce Task Force, and guidance from the Centers for Disease Control and Prevention, and the Occupational Safety and Health Administration. Specifically, this information will be used by DOE staff charged with implementing and enforcing workplace safety protocols.

(5) Annual Estimated Number of Respondents: 15,000;

(6) Annual Estimated Number of Total Responses: 15,000;

(7) Annual Estimated Number of Burden Hours: 2,505;

(8) Annual Estimated Reporting and Recordkeeping Cost Burden: $232,057.

Statutory Authority: Executive Order 13991, Protecting the Federal Workforce and Requiring Mask-Wearing (Jan. 20, 2021); Occupational Safety and Health Program for Federal Employees (Feb. 26, 1980); 5 U.S.C. chapters 11, and 79.; the COVID-19 Workplace Safety: Agency Model Safety Principles established by the Safer Federal Workforce Task Force, and guidance from Centers for Disease Control and Prevention, and the Occupational Safety and Health Administration.

Signing Authority

This document of the Department of Energy was signed on March 10, 2022, by John R. Bashista, Director, Office of Acquisition Management and Senior Procurement Executive, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 14, 2022.
Treena V. Garrett,
Federal Register Liaison Officer, U.S. Department of Energy.

[FR Doc. 2022-05632 Filed 3-16-22; 8:45 am]

BILLING CODE 6450-01-P